Proclamation 10598 of June 16, 2023

Juneteenth Day of Observance, 2023

By the President of the United States of America

A Proclamation

One of my proudest actions as President has been signing the bipartisan law establishing Juneteenth as the first new Federal holiday since the Dr. Martin Luther King, Jr. holiday nearly four decades ago. On this Juneteenth Day of Observance, we commemorate America's dedication to the cause of freedom.

On June 19, 1865—months after the Civil War ended and more than 2 years after President Lincoln signed the Emancipation Proclamation freeing enslaved people—Union troops arrived in Galveston, Texas, to free 250,000 people still held in bondage. The arrival of Major General Gordon Granger and his troops signaled that the Federal Government would not relent until the last enslaved people in America were free.

On Juneteenth, we commemorate that day and honor the tireless work of abolitionists who made it their mission to deliver the promise of America for all Americans. We honor the generations of activists who have advanced the need for our Nation to recognize Juneteenth as a way to reconcile our past as we build a new American future together—advocates like former State Representative Al Edwards, who authored the bill that made Texas the first state to designate Juneteenth a holiday, and Ms. Opal Lee, known as the grandmother of Juneteenth, who joined me at the bill signing that finally made it a Federal holiday.

Importantly, making Juneteenth a Federal holiday was only one part of my Administration's efforts to advance racial equity and ensure that America lives up to its highest ideals. With the expansion of the Child Tax Credit under the American Rescue Plan, we cut Black child poverty by half. From historic laws in my Investing in America agenda—in infrastructure, advanced manufacturing and clean energy, and lower prescription drug costs—to historic investments in Historically Black Colleges and Universities, our Nation is in the midst of rebuilding an economy from the middle out and the bottom up, instead of the top down. As a result, Black unemployment has been at a historic low and we are increasing access to affordable homeownership for Black Americans and combating bias in the home appraisal process. We are building a Federal bench that looks like America, with more Black women confirmed as circuit court judges than every other Presidency combined. I have taken action on marijuana reform by pardoning prior District of Columbia and Federal simple marijuana possession offenses and directed a review of marijuana scheduling. With the support of families, civil rights leaders, and law enforcement, I signed a historic Executive Order on police reform at the Federal level. And we passed the most significant gun safety law in nearly 30 years. My Administration's student debt relief plan that would provide $10,000 in relief for eligible borrowers and $20,000 in relief for borrowers who received Pell Grants is a critical step forward—among Black undergraduate borrowers, 70 percent received a Pell Grant. And in this Administration, we make it clear that history matters. Black history and Black stories will not be erased, denied, or banned from our Nation's conscience no matter how hard people may try.

But we know there is more to do. As we observe Juneteenth, we remind ourselves of the sacred proposition rooted in Scripture and enshrined in our Declaration of Independence: that we are all created equal in the image of God and each of us deserves to be treated equally throughout our lives. That is the promise of America that every generation is charged to keep alive. While the opposition may seem fierce and the fire of conflict may be intense, the story of Juneteenth reveals that freedom, justice, and equality will always prevail.

NOW, THEREFORE, I, JOSEPH R. BIDEN JR., President of the United States of America, by virtue of the authority vested in me by the Constitution and the laws of the United States, do hereby proclaim June 19, 2023, as Juneteenth Day of Observance. I call upon the people of the United States to acknowledge and condemn the history of slavery in our Nation and recognize how the impact of America's original sin remains. I call on every American to celebrate Juneteenth and recommit to working together to eradicate systemic racism and inequity in our society wherever they find it.

IN WITNESS WHEREOF, I have hereunto set my hand this sixteenth day of June, in the year of our Lord two thousand twenty-three, and of the Independence of the United States of America the two hundred and forty-seventh.

[FR Doc. 2023-13410

Filed 6-21-23; 8:45 am]

Billing code 3395-F3-P